DEPARTMENT OF AGRICULTURE

Forest Service

Notice of New Recreation Fee Site; Federal Lands Recreation Enhancement Act (Title VIII, Pub. L. 108-447)

AGENCY: Chattahoochee-Oconee National Forest, USDA Forest Service.

ACTION: Notice of new recreation fee site.

SUMMARY: The Chattahoochee-Oconee National Forests will begin charging a $5.00 daily special recreation permit trail fee per tow vehicle at the newly constructed Dry Creek Equestrian Trailhead. This new trailhead will facilitate equestrian use of the Chattahoochee National Forest and is located on the Armuchee/Cohutta Ranger District. Fee revenue will support operations and maintenance of the trailhead, trail system, and future site improvements.

DATES: Dry Creek Equestrian Trailhead is scheduled to open for public use in January 2006. A Special Recreation Permit fee would be collected once authorization is approved.

FOR FURTHER INFORMATION CONTACT: Carolyn Hoffmann, Recreation Fee Coordinator, 770-297-3030, Chattahoochee-Oconee National Forest, 1755 Cleveland Highway, Gainesville, Georgia 30005.

SUPPLEMENTARY INFORMATION: The Federal Recreation Lands Enhancement Act (Title VII, Pub. L. 108-447) directed the Secretary of Agriculture to publish advance notice in the Federal Register whenever new recreation fee areas are established. The Chattahoochee National Forests' Armuchee/Cohutta Ranger District presently manages 63 miles of a multi-use trail system called the Pinhoti Trail which traverses the states of Alabama and Georgia. The Dry Creek Equestrian Trailhead will offer access to the equestrian portion of the Pinhoti Trail system and also provide accessible facilities such as a vault toilet, picnic tables, trash cans, bulletin/interpretive board, an interpretive board adjacent to restroom facilities, and a secured parking area with 27 designated parking spaces.

Dated: December 20, 2005.
Larry M. Luckett,
Acting Forest Supervisor.

[FR Doc. E5-7866 Filed 12-23-05; 8:45 am]

BILLING CODE 3410-11-P